DEPARTMENT OF HEALTH AND HUMAN SERVICES

National Institutes of Health

National Institute on Drug Abuse; Amended Notice of Meeting

Notice is hereby given of a change in the meeting of the National Advisory Council on Drug Abuse, September 12, 2023, 10:30 a.m. to September 12, 2023, 05:00 p.m., National Institutes of Health, Neuroscience Center, 6001 Executive Boulevard, Rockville, MD 20852 which was published in the Federal Register on August 21, 2023, FR Doc 2023-17889, 88 FR 56847.

This notice is being amended to change the open session start time from 12:45 p.m. to 1:00 p.m. The open session will now be held from 1:00 p.m. to 5:00 p.m. on September 12, 2023. The meeting is partially closed to the public.

Dated: September 1, 2023.
Tyeshia M. Roberson-Curtis,
Program Analyst, Office of Federal Advisory Committee Policy.

[FR Doc. 2023-19406 Filed 9-7-23; 8:45 am]

BILLING CODE 4140-01-P